Title 3—

The President

Presidential Determination No. 2000-26 of July 7, 2000

Determination on the Proposed Agreement for Cooperation Between the United States of America and the Republic of Turkey Concerning Peaceful Uses of Nuclear Energy

Memorandum for the Secretary of State [and] the Secretary of Energy

I have considered the proposed Agreement for Cooperation Between the United States of America and the Republic of Turkey Concerning Peaceful Uses of Nuclear Energy, along with the views, recommendations, and statements of the interested agencies.

I have determined that the performance of the Agreement will promote, and will not constitute an unreasonable risk to, the common defense and security. Pursuant to section 123 b. of the Atomic Energy Act of 1954, as amended (42 U.S.C. 2153(b)), I hereby approve the proposed Agreement and authorize you to arrange for its execution.

The Secretary of State is authorized to publish this determination in the Federal Register.

wj

THE WHITE HOUSE,

Washington, July 7, 2000.

[FR Doc. 00-18236

Filed 7-17-00; 8:45 am]

Billing code 4710-10-M